FEDERAL COMMUNICATIONS COMMISSION

47 CFR Part 73

[DA 00-2591; MM Docket No. 00-237; RM-10006]

Radio Broadcasting Services; Window Rock, AZ

AGENCY: Federal Communications Commission.

ACTION: Proposed rule.

SUMMARY: This document requests comments on a petition for rule making filed by Western Indian Ministries, Inc., licensee of Station KWIM, Channel 274C3, Window Rock, Arizona, requesting the substitution of Channel 285C2 for Channel 274C3 and modification of its license accordingly to provide an expanded coverage area FM service to that community. Additionally, in accordance with the requirements of Section 1.420(g)(2) of the Commission's Rules, if another interest is expressed in the proposed Class C2 allotment, equivalent Channel 251C2 is also available for allotment at Window Rock. Coordinates used for Channel 285C2 at Window Rock are those of the presently licensed site of Station KWIM, at coordinates 35-39-19 NL and 109-01-59 WL.

DATES: Comments must be filed on or before January 8, 2001, and reply comments on or before January 23, 2001.

ADDRESSES: Secretary, Federal Communications Commission, Washington, DC 20554. In addition to filing comments with the FCC, interested parties should serve the petitioner, as follows: Western Indian Ministries, Inc., c/o Timothy C. Cutforth, P.E., 965 S. Irving Street, Denver, CO 80219.

FOR FURTHER INFORMATION CONTACT: Nancy Joyner, Mass Media Bureau, (202) 418-2180.

SUPPLEMENTARY INFORMATION: This is a synopsis of the Commission's Notice of Proposed RuleMaking, MM Docket No. 00-237, adopted November 8, 2000, and released November 17, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 274C3 and adding Channel 285C2 at Window Rock, Arizona.

Federal Communications Commission.
John A. Karousos,
Chief, Allocations Branch, Policy and Rules Division, Mass Media Bureau.

[FR Doc. 00-30365 Filed 11-28-00; 8:45 am]

BILLING CODE 6712-01-P